LEGAL SERVICES CORPORATION

Sunshine Act Meeting

TIME AND DATE: The Legal Services Corporation's (LSC) Board of Directors and its six committees will meet January 27-28, 2022. On Thursday, January 27, the first meeting will begin at 11 a.m. Eastern Standard Time (EST), with the next meeting commencing promptly upon adjournment of the immediately preceding meeting. On Friday, January 28, the first meeting will again begin at 12 p.m., EST, with the next meeting commencing promptly upon adjournment of the immediately preceding meeting.

PLACE:

Public Notice of Virtual Meeting.

LSC will conduct the January 27-28, 2022 meetings virtually via Zoom.

Public Observation: Unless otherwise noted herein, the Board and all committee meetings will be open to public observation. Members of the public who wish to participate remotely in the public proceedings may do so by following the directions provided below.

Directions for Open Sessions

Thursday, January 27, 2022

• To join the Zoom meeting by computer, please use this link.

• https://lsc-gov.zoom.us/j/92803095997?pwd=dTdGSkZZZ21YREVwWURmZm1EU2FRUT09.

○ Meeting ID: 928 0309 5997

○ Passcode: 12722

• To join the Zoom meeting with one tap from your mobile phone, please click dial:

○ +16468769923,,92803095997# US (New York)

○ +13017158592,,92803095997# US (Washington DC)

• To join the Zoom meeting by telephone, please dial one of the following numbers:

○ +1 301 715 8592 US (Washington DC)

○ +1 646 876 9923 US (New York)

○ +1 312 626 6799 US (Chicago)

○ +1 669 900 6833 US (San Jose)

○ +1 253 215 8782 US (Tacoma)

○ +1 346 248 7799 US (Houston)

○ +1 408 638 0968 US (San Jose)

○ Meeting ID: 928 0309 5997

○ Passcode: 12722

○ If calling from outside the U.S., find your local number here: https://lsc-gov.zoom.us/u/acCVpRj1FD

Friday, January 28, 2022

• To join the Zoom meeting by computer, please use this link.

• https://lsc-gov.zoom.us/j/95951870668?pwd=bThoZ0pVL0M3Q3ZYR2x3SEovalJkQT09.

○ Meeting ID: 959 5187 0668

○ Passcode: 12822

• To join the Zoom meeting with one tap from your mobile phone, please click dial:

○ +13126266799,,95951870668# US (Chicago)

○ +13017158592,,93655413488# US (Washington DC)

• To join the Zoom meeting by telephone, please dial one of the following numbers:

○ +1 301 715 8592 US (Washington DC)

○ +1 312 626 6799 US (Chicago)

○ +1 646 876 9923 US (New York)

○ +1 253 215 8782 US (Tacoma)

○ +1 346 248 7799 US (Houston)

○ +1 408 638 0968 US (San Jose)

○ +1 669 900 6833 US (San Jose)

○ Meeting ID: 959 5187 0668

○ Passcode: 12822

○ If calling from outside the U.S., find your local number here: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Institutional Advancement Committee—Open, except that, upon a vote of the Board of Directors, the meeting may be closed to the public to receive a briefing on development activities and discuss prospective new Leaders Council and Emerging Leaders Council members.

Audit Committee—Open, except that, upon a vote of the Board of Directors, the meeting may be closed to the public to discuss follow-up work by the Office of Compliance and Enforcement relating to open Office of Inspector General Investigations.

Finance Committee—Open, except that, upon a vote of the Board of Directors, the meeting may be closed to the public to discuss LSC's banking services and investment policy.

Board of Directors—Open, except that, upon a vote of the Board of Directors, a portion of the meeting may be closed to the public for briefings by management and LSC's Inspector General, and to consider and act on the General Counsel's report on potential and pending litigation involving LSC and prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed session of the Board, Audit, Finance, and Institutional Advancement Committee meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule
| Start time (all EST)
Thursday, January 27, 2022:
1. Governance and Performance Review Committee Meeting | 11 a.m.
2. Operations and Regulations Committee Meeting
3. Finance Committee Meeting
4. Audit Committee Meeting
Friday, January 28, 2022:
1. Institutional Advancement (IAC) Committee Meeting | 12 p.m.
2. Institutional Advancement (IAC) Communications Subcommittee Meeting
3. Delivery of Legal Services Committee Meeting
4. Open Board Meeting
5. Closed Board Meeting

Thursday, January 27, 2022

Governance and Performance Review Committee

Open Session

1. Approval of Agenda

2. Approval of Minutes of the Committee's Open Session Meeting on October 25, 2021

3. Briefing on Legal Aid and the Executive Branch

a. White House and U.S. Department of Justice meeting of Legal Aid Interagency Roundtable

b. White House, U.S. Department of Justice and U.S. Department of Treasury listening sessions on eviction

• Carol Bergman, Vice President for Government Relations & Public Affairs

• Ron Flagg, President

4. Report on Annual Board and Committee Evaluations

• Carol Bergman, Vice President for Government Relations & Public Affairs

5. Report on the Governance & Performance Review Committee Evaluation for 2021 and Goals for 2022

• Carol Bergman, Vice President for Government Relations & Public Affairs

6. Discussion of LSC President's 2021 Evaluation

• Ron Flagg, President

7. Discussion of Inspector General's 2021 Activities

• Jeff Schanz, Inspector General

8. Public Comment

9. Consider and Act on Other Business

10. Consider and Act on Adjournment of Meeting

Operations and Regulations Committee Meeting

Open Session

1. Approval of Agenda

2. Approval of Minutes of the Committee's Open Session Meeting on October 25, 2021

3. Discussion of the Committee's Evaluation for 2021 and the Committee's Goals for 2022

4. Discussion of Management's Report on Implementation of LSC's Strategic Plan for 2021-2024

• Ron Flagg, President

5. Update on Retrospective Review Process

• Stefanie Davis, Senior Assistant General Counsel and Ethics Officer

6. Public Comment

7. Consider and Act on Other Business

8. Consider and Act on Adjournment of Meeting

Finance Committee Meeting

Open Session

1. Approval of Agenda

2. Approval of the Minutes of the Committee's Open Session Meeting on October 26, 2021

3. Discussion of the Committee's Evaluation for 2021 and the Committee's Goals for 2022

4. Discussion of LSC's FY 2022 Appropriation

• Carol Bergman, Vice President for Government Relations & Public Affairs

5. Presentation of LSC's Financial Report for the First Two Months of FY 2022

• Debbie Moore, Chief Financial Officer and Treasurer

6. Discussion of LSC's FY 2023 Appropriations Request and Additional Supplemental Appropriation Requests

• Carol Bergman, Vice President for Government Relations & Public Affairs

7. Public Comment

8. Consider and Act on Other Business

9. Consider and Act on Motion to Adjourn the Open Session Meeting and Proceed to a Closed Session Meeting

Closed Session

1. Review of Banking Services and Investment Policy

• Debbie Moore, Chief Financial Officer and Treasurer

2. Consider and Act on Motion to Adjourn the Meeting

Audit Committee Meeting

Open Session

1. Approval of Agenda

2. Approval of Minutes of the Committee's Open Session Meeting on October 26, 2021

3. Discussion of the Committee's Evaluation for 2021 and the Committee's Goals for 2022

4. Briefing by the Office of Inspector General

• Jeffrey Schanz, Inspector General

• Roxanne Caruso, Assistant Inspector General for Audit

5. Pursuant to Section VIII(C)(5) of the Committee Charter, Review LSC's and the Office of Inspector General's Mechanisms for the Submission of Confidential Complaints

• Dan O'Rourke, Assistant Inspector General for Investigation

• Lora Rath, Director, Office of Compliance and Enforcement

6. Management Update Regarding Risk Management

• Will Gunn, Vice President for Legal Affairs & General Counsel

7. Briefing about Follow-up by the Office of Compliance and Enforcement on Referrals by the Office of Inspector General Regarding Audit Reports and Annual Independent Public Audits of Grantees

• Roxanne Caruso, Assistant Inspector General for Audit

• Lora Rath, Director, Office of Compliance and Enforcement

8. Public Comment

9. Consider and Act on Other Business

10. Consider and Act on Motion to Adjourn the Open Session Meeting and Proceed to a Closed Session Meeting

Closed Session

1. Approval of Minutes of the Committee's Closed Session Meeting on October 26, 2021

2. Briefing by Office of Compliance and Enforcement on Active Enforcement matter(s) and Follow-Up to Open Investigation Referrals from the Office of Inspector General

• Lora Rath, Director, Office of Compliance and Enforcement

3. Consider and Act on Adjournment of Meeting

Institutional Advancement Committee Meeting

Open Session

1. Approval of Agenda

2. Approval of Minutes of the Committee's Open Session Meeting on October 25, 2021

3. Discussion of the Committee's Evaluation for 2021 and the Committee's Goals for 2022

4. Update on Leaders Council and Emerging Leaders Council

• John G. Levi, Chairman of the Board

5. Development Report

• Nadia Elguindy, Director of Institutional Advancement

6. Consider and Act on Resolution #2022-XXX, Adopting Amendments to LSC's Fundraising Protocols

7. Consider and Act on Resolution #2022-XXX, Designating Use of Unrestricted Funds for LSC's Talk Justice Podcast

8. Update on LSC's 50th Anniversary Fundraising Campaign

• Nadia Elguindy, Director of Institutional Advancement

• Leo Latz, President and Founder, Latz & Company

9. Update on Veterans Task Force and Opioid Task Force Implementation

• Stefanie Davis, Senior Assistant General Counsel and Ethics Officer

10. Update on Eviction Study

• Lynn Jennings, Vice President for Grants Management

11. Update on Housing Task Force

• Helen Guyton, Senior Assistant General Counsel

12. Update on Rural Justice Task Force

• Jessica Wechter, Special Assistant to the President

13. Public Comment

14. Consider and Act on Other Business

15. Consider and Act on Motion to Adjourn the Open Session Meeting and Proceed to a Closed Session Meeting

Closed Session

1. Approval of Minutes of the Institutional Advancement Committee's Closed Session Meeting on October 25, 2021

2. Development Activities Report

• Nadia Elguindy, Director of Institutional Advancement

3. Consider and Act on Motion to Approve Leaders Council and Emerging Leaders Council Invitees

4. Consider and Act on Other Business

5. Consider and Act on Motion to Adjourn the Meeting

Communications Subcommittee of the Institutional Advancement Committee

Open Session

1. Approval of Agenda

2. Approval of Minutes of the Subcommittee's Open Session Meeting on October 25, 2021

3. Communications and Social Media Update

• Carl Rauscher, Director of Communications and Media Relations

4. Public Comment

5. Consider and Act on Other Business

6. Consider and Act on Motion to Adjourn the Meeting

Delivery of Legal Services Committee Meeting

Open Session

1. Approval of Agenda

2. Approval of Minutes of the Committee's Open Session Meeting on October 25, 2021

3. Discussion of Committee's Evaluation for 2021 and the Committee's Goals for 2022

4. Review Delivery of Legal Services Committee Charter

5. Performance Criteria Update

• Lynn Jennings, Vice President for Grants Management

• Joyce McGee, Director, Office of Program Performance

6. Panel Discussion: Grantee Civil Legal Needs Assessments

• Jon Asher, Executive Director, Colorado Legal Services

• Colleen Cotter, Executive Director, The Legal Aid Society of Cleveland

• Monica Vigues-Pitan, Executive Director, Legal Services of Miami

• Moderator: Joyce McGee, Director, Office of Program Performance

7. Public Comment

8. Consider and Act on Other Business

9. Consider and Act on a Motion to Adjourn the Meeting

Board Meeting

Open Session

1. Pledge of Allegiance

2. Approval of Agenda

3. Approval of Minutes of the Board's Open Session Meetings on October 26 and November 22, 2021

4. Consider and Act on Nominations for the Chair of the Board of Directors

5. Consider and Act on Nominations for the Vice Chair of the Board of Directors

6. Chairman's Report

7. Members' Reports

8. President's Report

9. Inspector General's Report

10. Consider and Act on the Report of the Governance and Performance Review Committee

11. Consider and Act on the Report of the Operations and Regulations Committee

12. Consider and Act on the Report of the Finance Committee

13. Consider and Act on the Report of the Audit Committee

14. Consider and Act on the Report of the Institutional Advancement Committee

15. Consider and Act on the Report of the Delivery of Legal Services Committee

16. Public Comment

17. Consider and Act on Other Business

18. Consider and Act on Motion to Adjourn the Open Session Meeting and Proceed to a Closed Session Meeting

Closed Session

1. Approval of Minutes of the Board's Closed Session Meeting on October 26, 2021

2. Management Briefing

3. Inspector General Briefing

4. Consider and Act on General Counsel's Report on Potential and Pending Litigation Involving LSC

5. Consider and Act on Prospective Leaders Council and Emerging Leaders Council Invitees

6. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: January 13, 2022.
Jessica L. Wechter,
Special Assistant to the President, Legal Services Corporation.

[FR Doc. 2022-00999 Filed 1-14-22; 11:15 am]

BILLING CODE 7050-01-P